DEPARTMENT OF ENERGY

Federal Energy Regulatory Commission

Sunshine Act Meetings

The following notice of meeting is published pursuant to section 3(a) of the government in the Sunshine Act (Pub. L. 94-409), 5 U.S.C.552b:

AGENCY HOLDING MEETING: Federal Energy Regulatory Commission.

TIME AND DATE: November 21, 2024, 10:00 a.m.

PLACE: Room 2C, 888 First Street NE, Washington, DC 20426.

STATUS: Open to the public.

MATTERS TO BE CONSIDERED: Agenda.

* Note—Items listed on the agenda may be deleted without further notice.

CONTACT PERSON FOR MORE INFORMATION: Debbie-Anne A. Reese, Secretary, Telephone (202) 502-8400.

For a recorded message listing items Stricken from or added to the meeting, call (202) 502-8627.

This is a list of matters to be considered by the Commission. It does not include a listing of all documents relevant to the items on the agenda. All public documents, however, may be viewed online at the Commission's website at https://elibrary.ferc.gov/eLibrary/search using the eLibrary link.

1119th—Meeting, Open
[November 21, 2024, 10:00 a.m.]
Item No. | Docket No. | Company
Administrative
A-1 | AD25-1-000 | Agency Administrative Matters.
A-2 | AD25-2-000 | Customer Matters, Reliability, Security and Market Operations.
A-3 | AD06-3-000 | Market Update.
Electric
E-1 | RM21-17-001 | Building for the Future Through Electric Regional Transmission Planning and Cost Allocation.
E-2 | RM05-5-031 | Standards for Business Practices and Communication Protocols for Public Utilities.
E-3 | ER24-2584-000 | ISO New England Inc. and New England Power Pool Participants Committee.
| EL23-62-000 | ISO New England Inc.
E-4 | OMITTED
E-5 | ER24-2971-000, TS24-5-000 | Dan's Mountain Wind Force, LLC.
E-6 | ER24-2016-000 | MATL LLP.
E-7 | ER24-2038-000 | UNS Electric, Inc.
E-8 | ER24-1993-000 | NorthWestern Corporation.
E-9 | ER24-2217-000 | SunZia Transmission, LLC.
E-10 | ER24-697-001, ER24-698-001 | Westlands Solar Blue (OZ) Owner, LLC, Castanea Project, LLC.
E-11 | ER14-714-003, ER18-2002-003, EL25-6-000 | Essential Power Rock Springs, LLC.
E-12 | ER14-715-003, EL25-7-000 | Essential Power OPP, LLC.
E-13 | ER24-1583-001 | Southwest Power Pool, Inc.
E-14 | ER14-199-003, EL25-11-000 | Lakewood Cogeneration, L.P.
E-15 | EC24-114-000 | Bridgeport Energy LLC, Essential Power Massachusetts, LLC, Essential Power Newington, LLC, Essential Power OPP, LLC, Essential Power Rock Springs, LLC, Hamilton Liberty LLC, Hamilton Patriot LLC, Hamilton Projects Acquiror, LLC, Lakewood Cogeneration, L.P., Nautilus Power, LLC, Revere Power, LLC, Rumford Power LLC and Tiverton Power LLC.
E-16 | ER22-1804-000 | Yaphank Fuel Cell Park, LLC.
E-17 | ER22-1804-001 | Yaphank Fuel Cell Park, LLC.
E-18 | ER24-2520-000 | Southwest Power Pool, Inc.
Hydro
H-1 | RM24-5-000 | Establishment of Categorical Reasonable Period of Time for Action on Requests for Water Quality Certification under Section 401(a)(1) of the Clean Water Act and Clarifying Types of Hydroelectric Project Proceedings that May Require Water Quality Certification.
H-2 | P-15332-000 | York Energy Storage LLC.
H-3 | P-77-321 | Pacific Gas and Electric Company.
Certificates
C-1 | CP24-8-000 | Natural Gas Pipeline Company of America LLC.
C-2 | CP24-88-000 | Rover Pipeline LLC.
C-3 | CP23-375-000 | Elba Liquefaction Company, L.L.C. and Southern LNG Company, L.L.C.

A free webcast of this event is available through the Commission's website. Anyone with Internet access who desires to view this event can do so by navigating to www.ferc.gov's Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: November 14, 2024.
Carlos D. Clay,
Acting Deputy Secretary.

[FR Doc. 2024-27141 Filed 11-15-24; 4:15 pm]

BILLING CODE 6717-01-P